DEPARTMENT OF THE INTERIOR

National Park Service

Notice of Inventory Completion: U.S. Department of Defense, U.S. Army, Joint Readiness Training Center and Fort Polk, Fort Polk, LA

AGENCY: National Park Service, Interior.

ACTION: Notice.

Notice is here given in accordance with the Native American Graves Protection and Repatriation Act (NAGPRA), 25 U.S.C. 3003, of the completion of an inventory of human remains in the possession of the U.S. Department of Defense, U.S. Army, Joint Readiness Training Center and Fort Polk, Fort Polk, LA. The human remains were removed from a site on the Fort Polk Military Reservation in Sabine Parish, LA.

This notice is published as part of the National Park Service’s administrative responsibilities under NAGPRA, 25 U.S.C. 3003 (d)(3). The determinations within this notice are the sole responsibility of the museum, institution, or Federal agency that has control of these Native American human remains. The National Park Service is not responsible for the determinations within this notice.

A detailed assessment of the human remains was made by U.S. Department of Defense, U.S. Army professional staff, including individuals from the Environmental Center; U.S. Army Corps of Engineers, St. Louis District; and Center of Engineering and Research Laboratory, in consultation with representatives of the Alabama-Coushatta Tribes of Texas; Alabama-Quassarte Tribal Town, Oklahoma; Caddo Indian Tribe of Oklahoma; Choctaw Nation of Oklahoma; Chitimacha Tribe of Louisiana; Coushatta Tribe of Louisiana; Jena Band of Choctaw Indians, Louisiana; Mississippi Band of Choctaw Indians, Mississippi; Poarch Band of Creek Indians of Alabama; and Tunica-Biloxi Indian Tribe of Louisiana.

The Joint Readiness Training Center and Fort Polk has determined that the human remains reported in this notice cannot be culturally affiliated with an Indian tribe as defined in NAGPRA, 25 U.S.C. 3001 (7), and are considered culturally unidentifiable. Until final promulgation of Section 10.11 of NAGPRA regulations, and according to its charter, the Native American Graves Protection and Repatriation Review Committee is responsible for recommending to the Secretary of the Interior specific actions for the disposition of culturally unidentifiable human remains. In December 2001, the Joint Readiness Training Center and Fort Polk proposed to repatriate one set of culturally unidentifiable human remains to the Caddo Indian Tribe of Oklahoma. The proposal was considered by the Review Committee at its May 31-June 2, 2002, meeting.

An August 30, 2002, letter from the National Park Service to the Joint Readiness Training Center and Fort Polk, conveyed the Review Committee's recommendation that disposition of the human remains to the Caddo Indian Tribe of Oklahoma may proceed following publication of a notice of inventory completion in the Federal Register. This notice fulfills that requirement.

In 1977 or 1978, human remains representing a minimum of one individual were removed from the Eagle Hill Training Airstrip site, Fort Polk Military Reservation, Sabine Parish, LA. The Airstrip site was excavated under the direction of Dr. Frank Servello of the University of Southwestern Louisiana. The human remains, consisting of one tooth, were found in a spoils pile adjacent to the Airstrip site. Dr. Robert Corruccini, professor of paleontological anthropology at Southern Illinois University, identified the tooth as probably being from a prehistoric Native American. No known individual was identified. No associated funerary objects are present.

Officials of the Joint Readiness Training Center and Fort Polk have determined that, pursuant to 25 U.S.C. 3001 (9-10), the human remains described above represent the physical remains of one individual of Native American ancestry. Officials of the Joint Readiness Training Center and Fort Polk also have determined that, pursuant to 25 U.S.C. 3001 (2), there is no relationship of shared group identity that can reasonably be traced between the Native American human remains and any present-day Indian tribe or group. In accordance with the recommendations of the Native American Graves Protection and Repatriation Review Committee, the disposition of the Native American human remains will be to the Caddo Indian Tribe of Oklahoma.

Representatives of any other Indian tribe that believes itself to be culturally affiliated with the human remains should contact James D. Grafton, Fort Polk Cultural Resources Management Program, 1645 23rd Street, Building 2515, Fort Polk, LA 71459, telephone (337) 531-6011, before September 15, 2003. Repatriation of the human remains to the Caddo Indian Tribe of Oklahoma may proceed after that date if no additional claimants come forward.

The Joint Readiness Training Center and Fort Polk is responsible for notifying the Alabama-Coushatta Tribes of Texas; Alabama-Quassarte Tribal Town, Oklahoma; Caddo Indian Tribe of Oklahoma; Choctaw Nation of Oklahoma; Chitimacha Tribe of Louisiana; Coushatta Tribe of Louisiana; Jena Band of Choctaw Indians, Louisiana; Mississippi Band of Choctaw Indians, Mississippi; Poarch Band of Creek Indians of Alabama; and Tunica-Biloxi Indian Tribe of Louisiana that this notice has been published.

Dated: July 17, 2003.
John Robbins,
Assistant Director, Cultural Resources.

[FR Doc. 03-20759 Filed 8-13-03; 8:45 am]

BILLING CODE 4310-70-S